DEPARTMENT OF LABOR

Employment and Training Administration

Notice of Random Assignment Study To Evaluate the YouthBuild Program; Final Notice

AGENCY: Employment and Training Administration (ETA), Labor.

ACTION: Notice.

SUMMARY: The Department of Labor (Department) will conduct an evaluation to provide rigorous, nationally-representative estimates of the net impacts of the YouthBuild program. The Department has determined that it is in the public interest to use a random assignment impact methodology for the study. In the sites randomly selected to participate in this evaluation, all applicants for YouthBuild during a 12-18 month enrollment period will be required to participate in the study. On August 17, 2011 (76 FR 51056-51058), the Department solicited comments concerning the Department's plan to carry out the study. No comments were received. The Department will proceed with the study as explained in the previous notice.

FOR FURTHER INFORMATION CONTACT: Eileen Pederson, U.S. Department of Labor, Employment and Training Administration, Office of Policy Development and Research, 200 Constitution Avenue NW., Frances Perkins Bldg., Room N-5641, Washington, DC 20210. Telephone: (202) 693-3647 (this is not a toll-free number) or email: pederson.eileen@dol.gov. Individuals with hearing or speech impairments may access the telephone number above via TTY by calling the toll-free Federal Information Relay Service at 1-(877) 889-5627 (TTY/TDD).

Signed: At Washington, DC, this 16th day of November, 2011.
Jane Oates,
Assistant Secretary for Employment and Training.

[FR Doc. 2011-30834 Filed 11-29-11; 8:45 am]

BILLING CODE 4510-FN-P